DEPARTMENT OF TRANSPORTATION

Federal Highway Administration

[FHWA Docket No. FHWA-2014-0035]

MAP-21 Comprehensive Truck Size and Weight Limits Study Public Meeting and Solicitation of Comments

AGENCY: Federal Highway Administration (FHWA); Department of Transportation (DOT).

ACTION: Notice of public meeting; continuation of comment period.

SUMMARY: This notice announces an upcoming public briefing and the continued collection of comments regarding the technical reports for the Moving Ahead for Progress in the 21st Century Act (MAP-21) Comprehensive Truck Size and Weight Limits Study (CTSWLS). On June 5, 2015, DOT released the five technical reports to the public and to the National Academy of Sciences (NAS) for peer review.

DATES: A public meeting will be held on June 18, 2015 at 1:00 p.m., e.t.. The public docket (FHWA-2014-0035) will remain open until a Final Report is submitted to Congress or until further notice by FHWA.

ADDRESSES: The fourth public meeting will be conducted as a virtual public meeting (webinar format) to maximize public access to the briefing. Additional details and registration information will be sent to individuals who have registered for email updates on the CTSWLS; registration information will also be posted on FHWA's CTSWLS Web site: http://www.ops.fhwa.dot.gov/freight/sw/map21tswstudy/index.htm.

You may submit comments identified by the docket number FHWA-2014-0035 by any one of the following methods:

Fax: 1-202-493-2251;

Mail: U.S. Department of Transportation, Docket Operations,M-30, West Building Ground Floor, Room W12-140, 1200 New Jersey Avenue SE., Washington, DC 20590;

Hand Delivery: U.S. Department of Transportation, Docket Operations, West Building Ground Floor, Room W12-140, 1200 New Jersey Avenue SE., Washington, DC 20590, between 9 a.m. and 5 p.m., Monday through Friday, except Federal holidays; or

Electronically through the Federal eRulemaking Portal: http://www.regulations.gov. Follow the online instructions for submitting comments.

FOR FURTHER INFORMATION CONTACT: Send an email to CTSWStudy@dot.gov, or contact Mr. Thomas Kearney at: (518) 431-8890 or Tom.Kearney@dot.gov; Edward Strocko at: (202) 366-2997, or Ed.Strocko@dot.gov; Office of Freight Management and Operations, Federal Highway Administration, Department of Transportation, 1200 New Jersey Ave. SE., Washington, DC 20590.

SUPPLEMENTARY INFORMATION:

Background

Section 32801 of MAP-21 (Pub. L. 112-141) requires DOT to conduct a CTSWLS addressing differences in safety risks, infrastructure impacts, and the effect on levels of enforcement between trucks operating at or within Federal truck size and weight limits and trucks legally operating in excess of Federal limits; comparing and contrasting the potential safety and infrastructure impacts of alternative configurations (including configurations that exceed current Federal limits to the current Federal law and regulations); and, estimating the effects of freight diversion due to these alternative configurations.

Report Release

The DOT released the technical reports to the public and submitted them to the NAS on June 5, 2015 for peer review. The technical reports are available on FHWA's CTSWLS Web site: http://www.ops.fhwa.dot.gov/freight/sw/map21tswstudy/index.htm.

The DOT is releasing these materials in advance of submitting a Final Report to Congress.

Public Meetings and Comment

On June 18, 2015, at 1:00 p.m., e.t., DOT will hold a virtual public meeting to provide an overview of the technical reports and update on the remaining tasks to complete the Final Report for the CTSWLS. This meeting will be recorded.

An additional presentation will be made for the second and final phase of the NAS peer review; details on the public portion of that meeting will be posted on the NAS and DOT CTSWLS Web sites and sent by email to people who have requested notification through the CTSWLS email distribution list.

The public docket for comments (FHWA-2014-00350) on any aspect of the CTSWLS, including the technical reports, will remain open until the Final Report is submitted to Congress or until further notice by FHWA.

The DOT invites the public to participate in these meetings and to direct comments to the public docket.

Authority: Sec. 32801, Pub. L. 112-141.

Issued on: June 10, 2015.
Gregory G. Nadeau,
Acting Administrator .

[FR Doc. 2015-14693 Filed 6-12-15; 8:45 am]

BILLING CODE 4910-22-P